DEPARTMENT OF LABOR

Office of the Secretary

Senior Executive Service; Appointment of Members to the Performance Review Board

Title 5 U.S.C. 4314(c)(4) provides that Notice of the Appointment of an individual to serve as a member of the Performance Review Board of the Senior Executive Service shall be published in the Federal Register.

The following individual is hereby appointed to serve on the Department's Performance Review Board: Irasema Garza.

FOR FURTHER INFORMATION CONTACT: Ms. Kimberlee Proctor, Director, Office of Executive Resources, Room N-2453, U.S. Department of Labor, Frances Perkins Building, 200 Constitution Avenue NW., Washington, DC 20210, telephone: (202) 693-7800.

Dated: Signed at Washington, DC, this 29th day of February, 2012.
Hilda L. Solis,
Secretary of Labor.

[FR Doc. 2012-8400 Filed 4-6-12; 8:45 am]

BILLING CODE 4510-23-P